DEPARTMENT OF ENERGY

Federal Energy Regulatory Commission

Combined Notice of Filings

Take notice that the Commission has received the following Natural Gas Pipeline Rate and Refund Report filings:

Filings in Existing Proceedings

Docket Numbers: PR22-6-000.

Applicants: EasTrans, LLC.

Description: Submits tariff filing per 284.123(b), (e)/: EasTrans SOC Version 5.1.0 to be effective 11/1/2021 Revising PR21-41-000 under PR22-6.

Filed Date: 11/22/2021.

Accession Number: 20211122-5086.

Comments/Protests Due: 5 p.m. ET 12/13/21.

Docket Numbers: RP11-1591-000.

Applicants: Golden Pass Pipeline LLC.

Description: Refund Report: 2021 Penalty and Revenue Costs Report of Golden Pass Pipeline LLC to be effective N/A.

Filed Date: 11/22/21.

Accession Number: 20211122-5181.

Comment Date: 5 p.m. ET 12/6/21.

Any person desiring to protest in any of the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2021.
Kimberly D. Bose,
Secretary.

[FR Doc. 2021-26039 Filed 11-29-21; 8:45 am]

BILLING CODE 6717-01-P